DEPARTMENT OF AGRICULTURE

Agricultural Research Service

Solicitation of Nominations, Advisory Committee on Biotechnology and 21st Century Agriculture

AGENCY: Office of the Under Secretary, Research, Education, and Economics, USDA.

ACTION: Notice.

SUMMARY: Pursuant to 5 U.S.C. App., the Agricultural Research Service is requesting nominations for qualified persons to serve as members of the Secretary's Advisory Committee on Biotechnology and 21st Century Agriculture (AC21). The charge for the AC21 is two-fold: To examine the long-term impacts of biotechnology on the U.S. food and agriculture system and USDA; and to provide guidance to USDA on pressing individual issues, identified by the Office of the Secretary, related to the application of biotechnology in agriculture.

DATES: Written nominations must be received by fax or postmarked on or before April 29, 2009.

ADDRESSES: All nomination materials should be sent to Michael Schechtman, Designated Federal Official, Office of the Deputy Secretary, USDA, 202B Jamie L. Whitten Federal Building, 14th and Independence Avenue, SW., Washington, DC 20250.

FOR FURTHER INFORMATION CONTACT: Michael Schechtman, Telephone (202) 720-3817.

SUPPLEMENTARY INFORMATION: Nominations are being sought for open Committee seats to supplement a pool of nominations received on or before December 22, 2008. AC21 members serve terms of up to 2 years, with terms for around half of the Committee members generally expiring in most years. The committee's Charter allows for a committee of 20 to 25 members and there are currently a minimum of 12 slots on the Committee that need to be filled, including that of the Chair. Equal opportunity practices, in line with USDA policies, will be followed in all membership appointments to the Committee. To ensure that recommendations of the Committee take into account the needs of the diverse groups served by the Department, membership shall include, to the extent practicable, individuals with demonstrated ability to represent minorities, women, and persons with disabilities.

Nominees of the AC21 should have recognized expertise in one or more of the following areas: Recombinant-DNA (rDNA) research and applications using plants; rDNA research and applications using animals; rDNA research and applications using microbes; food science; silviculture and related forest science; fisheries science; ecology; veterinary medicine; the broad range of farming or agricultural practices; weed science; plant pathology; biodiversity; applicable laws and regulations relevant to agricultural biotechnology policy; risk assessment; consumer advocacy and public attitudes; public health/epidemiology; ethics, including bioethics; human medicine; biotechnology industry activities and structure; intellectual property rights systems; and international trade. Members will be selected by the Secretary of Agriculture in order to achieve a balanced representation of viewpoints to address effectively USDA biotechnology policy issues under consideration. Background information regarding the work of the AC21, including reports already developed by the Committee, is available on the USDA Web site at http://www.usda.gov/wps/portal/!ut/p/_s.7_0_A/7_0_1OB?navid=BIOTECH&parentnav=AGRICULTURE&navtype=RT.

Nominations for AC21 membership must be in writing and provide the appropriate background documents required by USDA policy, including background disclosure form AD-755. All nomination materials should be sent to Michael Schechtman at the address listed in the ADDRESSES section. Forms may also be submitted by fax to (202) 690-4265. To obtain form AD-755 only, please contact Dianne Fowler, Office of Pest Management Policy, telephone (202) 720-4074, fax (202) 720-3191; e-mail Dianne.fowler@ars.usda.gov.

The AC21 meets in Washington, DC, up to four (4) times per year. The function of the AC21 is solely advisory. Members of the AC21 and its subcommittees serve without pay, but with reimbursement of travel expenses and per diem for attendance at AC21 and subcommittee functions for those AC21 members who require assistance in order to attend the meetings. While away from home or their regular place of business, those members will be eligible for travel expenses paid by the Office of the Under Secretary, Research, Education, and Economics, USDA, including per diem in lieu of subsistence, at the same rate as a person employed intermittently in the government service is allowed under Section 5703 of Title 5, United States Code.

Submitting Nominations: Nominations should be typed and include the following:

1. A brief summary of no more than two (2) pages explaining the nominee's suitability to serve on the AC21.

2. A resume or curriculum vitae.

3. A completed copy of form AD-755.

All nominations must be post marked no later than April 29, 2009.

Katherine Smith,
Acting Deputy Under Secretary, Research, Education and Economics.

[FR Doc. E9-6884 Filed 3-27-09; 8:45 am]

BILLING CODE 3410-03-P